SMALL BUSINESS ADMINISTRATION

[Declaration of Disaster #3528]

State of Ohio; (Amendment #2)

In accordance with the notice received from the Department of Homeland Security—Federal Emergency Management Agency, effective July 29, 2003, the above numbered declaration is hereby amended to include Crawford and Pike counties as disaster areas due to damages caused by severe storms and flooding occurring on July 4, 2003 and continuing through July 11, 2003.

In addition, applications for economic injury loans from small businesses located in the contiguous counties of Adams, Highland, Huron, Jackson, Marion, Morrow, Richland, Ross, Scioto, Seneca and Wyandot in the State of Ohio may be filed until the specified date at the previously designated location. All other counties contiguous to the above named primary counties have been previously declared.

All other information remains the same, i.e., the deadline for filing applications for physical damage is September 15, 2003, and for economic injury the deadline is April 15, 2004.

(Catalog of Federal Domestic Assistance Program Nos. 59002 and 59008).
Dated: July 30, 2003.
Cheri L. Cannon,
Acting Associate Administrator for Disaster Assistance.

[FR Doc. 03-19885 Filed 8-4-03; 8:45 am]

BILLING CODE 8025-01-P